DEPARTMENT OF TRANSPORTATION

Federal Transit Administration

Environmental Impact Statement for the Fulton Street Transit Center in New York, NY

AGENCY: Federal Transit Administration (FTA), DOT.

ACTION: Notice of intent to prepare an Environmental Impact Statement (EIS).

SUMMARY: The FTA, in cooperation with the Metropolitan Transportation Authority (MTA) and New York City Transit (NYCT), intends to prepare an Environmental Impact Statement (EIS) on a proposal to create the Fulton Street Transit Center in Lower Manhattan, New York, NY. The proposed project would consist of six distinct elements: (1) A new mass transit “Center” at street and subsurface levels on Broadway between Fulton and John Streets that would provide consolidated access to, and transfers between nine different subway lines; (2) rehabilitation of the 4/5 line Fulton Street Station and the 2/3 line Fulton Street Station; (3) improvements to the mezzanines and platform access at the A/C line Fulton Street Station that would facilitate way-finding, circulation and access to the street and to the platform; (4) an underground concourse below Dey Street between Broadway and Church Street that would connect the N/R line and the area west of Church Street with the 4/5 line and the area east of Broadway; (5) a pedestrian and passenger connection located beneath Church Street that would link the Cortlandt Street Station on the N/R line with the E line terminal station at the former World Trade Center site and include a new transfer between N/R platforms; and (6) various improvements to street entrances to the subway to provide better access for all users, including Americans with Disabilities Act (ADA) compliant access. The location for these proposed improvements is in Lower Manhattan in the area bounded by Church Street to the west, William Street to the east, Fulton Street to the north and Dey Street and John Street to the south.

The EIS is being prepared in accordance with the National Environmental Policy Act of 1969 (NEPA) and the applicable regulations implementing NEPA, as set forth in 23 CFR part 771 and 40 CFR parts 1500-1508. As co-sponsors of the proposed project, the MTA and NYCT will ensure that the EIS and the environmental review process also satisfy the requirements of the New York State Environmental Quality Review Act (SEQRA) as may be applicable.

The EIS will evaluate a No Action Alternative, various Build Alternatives, and any additional alternatives generated by the scoping process. Scoping will be accomplished through meetings and correspondence with interested persons, organizations, and Federal, state, regional, and local agencies.

DATES: The public is invited to participate in project scoping on April 29, 2003 from 6 p.m. to 9 p.m. at the location identified under ADDRESSES below to ensure that all significant issues are identified and considered. Poster boards depicting the project concept will be available for review at the meeting location from 4 p.m. to 6 p.m. A formal presentation by MTA and NYCT regarding the project will be made at 6 p.m., followed by the opportunity for the public to ask questions and make comments on the scope of the EIS. MTA and NYCT representatives will be available for informal questions and comments during the 4 to 6 p.m. poster session. Those wishing to speak are requested to register at the meeting location before 7 p.m. Additional speakers will be invited until there are no more requesting to be heard. Subsequent opportunities for public involvement will be announced on the Internet, by mail, and through other appropriate mechanisms, and will be conducted throughout the study area. Additional project information may be obtained from the MTA Web site: http://www.mta.info (click “Inside the MTA” then “Planning Studies,” and “Fulton Street Transit Center”). Written comments on the scope of the EIS should be sent to the MTA Project Manager by May 13, 2003 at the address given under ADDRESSES below.

ADDRESSES: The public scoping meeting will be held at The Alexander Hamilton U.S. Custom House, One Bowling Green, Lower Level Auditorium, New York, NY. The scoping meeting site is accessible to mobility-impaired people and interpreter services will be provided for hearing-impaired people upon request. Written comments will be taken at the meeting or may be sent to the following address at any time during the scoping period: Mr. William Wheeler, Director, Special Project Development and Planning, Fulton Street Transit Center, C/O Government and Community Relations, MTA New York City Transit, 130 Livingston Street, Brooklyn, New York, NY 11201. The scoping packet may also be requested by writing to this address or by calling (718) 694-5160. Requests to be placed on the project mailing list may also be made by calling this number or by writing to the project address above.

FOR FURTHER INFORMATION CONTACT: Susan E. Schruth, Director, Lower Manhattan Recovery Office, Federal Transit Administration, One Bowling Green, Room 429, New York, NY 10004; Telephone: (212) 668-1770.

SUPPLEMENTARY INFORMATION:

I. Scoping

FTA and MTA/NYCT invite interested individuals, organizations, and Federal, state, and local agencies to provide comments on the scope of the Fulton Street Transit Center EIS. During the scoping process, comments should focus on specific social, economic, or environmental issues to be evaluated, and on suggesting alternatives that may be less costly or have fewer environmental impacts while achieving similar transportation objectives. To assist interested parties in formulating their comments, a scoping information packet has been prepared and is available on the MTA Web site address noted above, or upon request from the MTA representative identified above. The scoping information packet includes the project's purpose and need, goals and objectives, a preliminary list of alternatives, and environmental areas that will be addressed during the course of the study. An outline of the on-going public participation program is also contained in the information packet and on the Internet site given above.

II. Description of the Project Area

The MTA/NYCT subway system is the largest in North America, serving 4.6 million trips daily and is the main public transit service to Lower Manhattan. The largest and most heavily used subway lines providing access to Lower Manhattan converge at or near the Fulton Street—Broadway Nassau Subway Station Complex in Lower Manhattan. This station complex consists of four separate stations serving a total of nine subway lines, including: (1) The 4/5 line Fulton Street Station below Broadway; (2) the A/C line Broadway Nassau Station below Fulton Street; (3) the J/M/Z line Fulton Street Station below Nassau Street; and (4) the 2/3 line Fulton Street Station below William Street. In combination, this station complex is the ninth largest of over 400 stations citywide, serving over 225,000 movements (passengers entering, exiting or transferring) each day, and is among the oldest in the City. The complex is one block (450 feet) east of the site of the former World Trade Center (WTC).

One block (approximately 450 feet) to the west of this station complex is the N/R line Cortlandt Street Station below Church Street, immediately adjacent to the WTC site. Two blocks (approximately 400 feet) further to the north, the E line below Church Street terminates in a station at the WTC site. Immediately west of the study area is the 1/9 line Cortlandt Street Station at the WTC site. None of these stations have underground connections to each other or to the Fulton Street—Broadway Nassau Subway Station Complex. Also located to the west is the proposed restoration of Port Authority Trans-Hudson (PATH) service and the existing trans-Hudson ferry service at the World Financial Center, neither of which is directly connected to any of the subway lines.

III. Problem Identification

The four separate stations comprising the Fulton Street—Broadway Nassau Subway Station Complex were built at different times since the early 1900s. Because these stations were separately conceived and were connected after their construction, a series of inefficient and circuitous connections were constructed between the individual stations. This group of stations is further characterized by: Crowded corridors, mezzanines and train platforms; lack of prominent surface visibility to aid customer entry and exit; and inadequate connections to other nearby subway and transit services. Despite the extraordinary density of transit services at the existing Fulton Street—Broadway Nassau Subway Station Complex, there is no quick and easy access to, from and among the other heavily-used subway lines in the vicinity or efficient connections between the subway network and the street. Given these deficiencies, the existing Fulton Street—Broadway Nassau Subway Station Complex is cumbersome to workers and others who access Lower Manhattan daily. Its improvement would address a long-standing obstacle to better transit access to Lower Manhattan.

The importance of addressing Lower Manhattan transit access was further reinforced by the devastating impact of the terrorist attacks on Lower Manhattan on September 11, 2001. These events caused serious disruption to the economy, infrastructure and quality of life, and have made travel to and from Lower Manhattan difficult and time consuming. Residents, businesses and jobs have been displaced, and there is a compelling need to restore and improve the transportation infrastructure and functionality in Lower Manhattan to allow for a full economic recovery.

Millions of visitors are expected to visit Lower Manhattan as the planned World Trade Center memorial is anticipated to become one of the most important destinations in the United States. With 85% of all downtown access trips made by transit, Lower Manhattan urgently needs a clear, easily navigable, “connected” subway complex and visible gateway to support its economic recovery and provide access to the prospective WTC Memorial and other cultural resources for tourists.

Because of the pivotal role that the Fulton Street—Broadway Nassau Subway Station Complex currently plays in providing transit access to Lower Manhattan, its existing deficiencies need to be addressed in order to improve upon the overall access to Lower Manhattan and in supporting its economic recovery and future growth.

IV. Purpose and Need for the Proposed Action

The purpose of the Fulton Street Transit Center is to create a functionally and visually unified transit facility with a central distinguishing portal by improving the existing Fulton Street—Broadway Nassau Subway Station Complex. This would reduce congestion at the existing subway platforms, improve the overall experience of transit users and provide improved pedestrian connectivity within the subway complex and with other subway and transit services to the west. In doing so, the proposed action would address the need for improved access to Lower Manhattan in support of economic recovery and resumed growth.

Addressing the deficiencies at the Fulton Street—Broadway Nassau Subway Station Complex would create a facility that is less congested and circuitous, ADA accessible, easily identifiable at street level, and provide direct pedestrian access and streamlined transfers with other subway services. The proposed Fulton Street Transit Center would be designed to adequately accommodate present customer demands and anticipated 2020 levels of demand for movement to, from, and within the existing Fulton Street—Broadway Nassau Subway Station Complex.

V. Goals and Objectives

In conjunction with the purpose and need for the proposed action, the following goals and objectives have been identified in support of improving transit access to Lower Manhattan and economic revitalization.

The specific goals for the proposed action are to provide a prominent and effective downtown transit center that:

• Facilitates access, improves wayfinding, and streamlines transfers;

• Allows for intermodal connectivity (PATH, ferry service);

• Promotes system flexibility in the event of service disruption;

• Improves east-west pedestrian connectivity across Lower Manhattan;

• Promotes safety and reduces congestion at heavily trafficked street crossings;

• Supports current land use, and recovery and rebuilding of Lower Manhattan; and,

• Improves travelers' experience and transit's overall attractiveness.

In support of the above goals, the objectives are to:

• Create a Transit Center to better serve the complex of four stations located between Broadway and William Street: i.e., the 4/5, J/M/Z and 2/3 Fulton Street Stations and the A/C Broadway Nassau Station;

• Add a concourse beneath Dey Street to link the new Transit Center with the N/R Cortlandt Street Station, and allow for a connection with a proposed Port Authority of New York and New Jersey (PANYNJ) sponsored concourse that would continue into the WTC site, connect to the PATH and the 1/9 line Cortlandt Street Station, and potentially extend to the World Financial Center and trans-Hudson ferries;

• Provide a visual presence by creating a street-level building and prominent point of access to the subway system;

• Improve street access to the 4/5 line Fulton Street Station and the N/R line Cortlandt Street Station;

• Improve the transfer between the 4/5 and A/C lines in particular, and all adjacent services in general;

• Establish both a paid and unpaid connection between the N/R line Cortlandt Street Station and the E line Terminal at the WTC site;

• Reduce dwell time and exposure to dwell delays for 4/5 and A/C trains at the Fulton Street Station;

• Reduce commuter access time from the WTC site/World Financial Center and PATH to locations and subway stations east of Church Street;

• Create Americans with Disabilities Act (ADA) compliant access;

• Improve wayfinding; and

• Improve safety.

The proposed Fulton Street Transit Center project will be closely coordinated with the proposed PATH station reconstruction at the WTC site, the proposed WTC Transportation Hub project and the redevelopment of the WTC site.

VI. Alternatives

The EIS will evaluate alternatives and options for the proposed action which will: (1) Be feasible and cost-effective, and provide beneficial transit improvements that enhance connections to the existing transportation system and Lower Manhattan land uses; (2) meet the anticipated increase in transit use in Lower Manhattan; and (3) enhance Lower Manhattan and the region's economic vitality and quality of life.

Based on previous planning studies, and with the cooperation of public and agency work groups, a preliminary list of alternatives has been developed to address the purpose and need of this facility. The alternatives identified to date, which may be supplemented or further developed during the scoping process, have been organized as follows: (A) No Action Alternative; (B) Transit Center and Concourse Full Build Alternative; (C) Partial Build Alternatives. The Full Build Alternative under consideration includes a transit center building with a subsurface passenger concourse connecting several existing subway stations. The Partial Build Alternatives include: a subsurface passenger concourse connecting several existing subway stations without a transit center building; and a combination of improvements, rehabilitations, and enhancements to existing stations. The full set of project alternatives are further described as follows:

A. No Action Alternative. This alternative provides for minor improvements, repairs, and other maintenance actions to the existing Fulton Street—Broadway Nassau Subway Station Complex and the N/R line Cortlandt Street Station.

B. Transit Center and Concourse Full Build Alternative. This alternative provides for construction of the following six main elements:

1. A new transit “Center” at street and subsurface levels on Broadway between Fulton and John Streets. The “Center” would serve the large ridership of Lower Manhattan, facilitate pedestrian access and transfer between subway lines, reduce 4/5 and A/C train platform congestion and dwell times, improve wayfinding between stations, improve street access and street-level visibility, and provide consolidated downtown access.

2. Rehabilitation of the 4/5 line Fulton Street Station and the 2/3 line Fulton Street Station. This element would incorporate the necessary measures to bring these stations to a state of good repair and provide operational and infrastructure improvements consistent with NYCT station planning, accessibility and design guidelines.

3. Improvements to the mezzanines and platform access at the A/C line Fulton Street Station. These improvements would facilitate wayfinding, circulation and access to the street and to the platform for all users, including those subject to the Americans with Disabilities Act (ADA). They would address current and future overcrowded circulation conditions.

4. An underground concourse beneath Dey Street between Broadway and Church Street. This concourse would connect the N/R line with the 4/5 line and the area west of Church Street with the area east of Broadway. The concourse would improve pedestrian connectivity between subway lines, particularly east-west across Lower Manhattan, and pedestrian safety, comfort, and convenience, and would provide intermodal connectivity between NYCT services and prospective PATH services west of Church Street.

5. A pedestrian and passenger connector between N/R and E service. This connector would improve west side access to Lower Manhattan and would improve operational flexibility by permitting customers to transfer between the services without payment of additional fares. This connector would run along Church Street, linking the northern end of the N/R line Cortlandt Street Station with the southern end of the E line terminal at the World Trade Center, and would include a new transfer between N/R platforms.

6. Improved street access to the subway. This element would provide better access for all users through the provision of wider and more direct stairways, access for disabled customers and new street entrances from the 4/5 and N/R platforms.

In combination, the above-stated six elements encompass the Transit Center and Concourse Full Build Alternative.

C. Partial Build Alternatives. Various combinations of subsets of the six project elements described under the Full Build Alternative above will be considered. For example, one possibility is construction of only the underground concourse beneath Dey Street between Broadway and Church Street. This partial-build alternative would connect the N/R and 4/5 subway lines with a fully accessible subsurface concourse under Dey Street. FTA and MTA/NYCT specifically seek comment during scoping on appropriate combinations of project elements that should be evaluated as detailed alternatives in the EIS.

Although compatible with and contributing to the functionality of the overall Transit Center, some elements of the Full Build Alternative, such as the station rehabilitation elements, are functionally independent of the other elements of the proposed action. Although the current plan is to evaluate all of these geographically contiguous elements in the EIS, as the project elements are developed and as schedules and construction phasing plans develop, it is possible that some of the independent elements may be advanced via separate environmental evaluations under NEPA.

VII. Potential Adverse Effects

Upon its completion, the proposed Fulton Street Transit Center is anticipated to eliminate the existing deficiencies in Lower Manhattan subway service noted above and generate positive impacts for Lower Manhattan businesses, residents, workers, and visitors. In light of this, and in consideration of other new construction activity that is expected to occur in Lower Manhattan over the next decade, it is anticipated that construction-related impacts from the proposed project may be the most important aspect of the environmental evaluation under NEPA. Potential effects associated with the construction phase include noise, business disruption, and impacts on pedestrian and vehicular traffic, air quality, and historic resources. The cumulative effects of construction of this project and other Lower Manhattan recovery projects will be a major focus of the evaluation.

The long-term operational issues and impacts of the alternatives to be considered in the EIS include economic development; land acquisition; historic, archaeological, and cultural resources; visual and aesthetic qualities; air quality; noise and vibration; safety and security; utilities; and transportation impacts. In addition, the EIS will describe the methodology used to assess impacts; identify the affected environment; and identify opportunities and measures for mitigating adverse impacts. Principles of environmental construction management, resource protection and mitigation measures, and NYCT's “Design for the Environment” guidelines (2002) will be considered for incorporation into the Build Alternatives.

VIII. FTA Procedures

During the NEPA process, FTA will also comply with the requirements of the National Historic Preservation Act, Section 4(f) of the Department of Transportation Act (49 U.S.C. 303), the Clean Air Act, and other applicable environmental statutes, rules, and regulations, in accordance with FTA procedures.

Through the NEPA scoping process and as project development advances, it will be determined whether certain elements of the Full Build Alternative should be advanced independently or in combination with other elements, or be deferred for evaluation at a future time, in order to meet the transportation needs of redeveloping Lower Manhattan with minimal impact and in a timely manner.

If there are no major changes to the proposed action, a Draft EIS will be prepared and made available for public and agency review and comment. One or more public hearings will be held on the Draft EIS. On the basis of the Draft EIS and the public and agency comments thereon, a locally preferred alternative will be selected and will be fully described and further developed in the Final EIS.

Issued on: March 31, 2003.
Susan E. Schruth,
Director, Lower Manhattan Recovery Office.

[FR Doc. 03-8136 Filed 4-2-03; 8:45 am]

BILLING CODE 4910-57-P